COMMODITY FUTURES TRADING COMMISSION

Notice of Sunshine Act Meeting

Agency Holding the Meeting: Commodity Futures Trading Commission.

Time and Date: 10:30 a.m., Wednesday, October 25, 2006.

Place: 1155 21st St., NW., Washington, DC, 9th Floor Conference Room.

Status: Closed.

Matters to be Considered: Rule Enforcement Review.

FOR FURTHER INFORMATION CONTACT: Eileen A. Donovan, 202-418-5100.

Eileen A. Donovan,
Acting Secretary of the Commission.

[FR Doc. 06-8533 Filed 10-3-06; 11:13 am]

BILLING CODE 6351-01-M